DEPARTMENT OF COMMERCE

National Oceanic and Atmospheric Administration

RIN 0648-XU50

Endangered and Threatened Species; Initiation of a 5-Year Review of the Eastern Distinct Population Segment of the Steller Sea Lion

AGENCY: National Marine Fisheries Service (NMFS), National Oceanic and Atmospheric Administration (NOAA), Commerce.

ACTION: Notice; correction.

SUMMARY: NMFS published a notice on June 29, 2010, announcing the initiation of a 5-year review of the eastern Distinct Population Segment (DPS) of the Steller Sea Lion (Eumetopias jubatus) under the Endangered Species Act of 1973, as amended (ESA) and requesting information related to that review. The document contained incorrect information about the email address and fax number to which comments and information should be sent.

DATES: This correction is effective July 7, 2010.

FOR FURTHER INFORMATION CONTACT: Dr. Lisa Rotterman (907-271-1692), lisa.rotterman@noaa.gov.

SUPPLEMENTARY INFORMATION:

Background

On June 29, 2010, NMFS published a notice of initiation of a 5-year review for the eastern Distinct Population Segment of the Steller sea lion (75 FR 37385). NMFS inadvertently gave incorrect e-mail and fax information. The correct email is ssldps@noaa.gov and the correct fax number is 907-586-7557. It is requested that all information be sent to the corrected e-mail or fax, although information sent to the e-mail and fax in the previous notice will be accepted. On page 37386, first column under ADDRESSES, the correct email address is ssldps@noaa.gov and the correct fax number is 907-586-7557.

Authority: 16 U.S.C. 1531 et seq.

Dated: June 30, 2010.
Angela Somma,
Chief, Endangered Species Division, Office of Protected Resources, National Marine Fisheries Service.

[FR Doc. 2010-16497 Filed 7-6-10; 8:45 am]

BILLING CODE 3510-22-S